DEPARTMENT OF VETERANS AFFAIRS

Special Medical Advisory Group; Notice of Meeting

The Department of Veterans Affairs (VA) gives notice under the Federal Advisory Committee Act, 5 U.S.C. App. 2, that the Special Medical Advisory Group will meet on November 24, 2015, in the Freedom Auditorium (on the fourth floor) at the Veterans Affairs Medical Center, 50 Irving Street NW., Washington DC 20422 from 9:00 a.m. to 3:30 p.m. ET. The meeting is open to the public.

The purpose of the Group is to advise the Secretary of Veterans Affairs and the Under Secretary for Health on the care and treatment of Veterans, and other matters pertinent to the Department's Veterans Health Administration (VHA).

On November 24, 2015, from 7:30 a.m. to 9:00 a.m. the Group will convene a closed door session in order to protect patient privacy as the Group tours the Washington, DC VA Medical Center 5 U.S.C. 552b(b)(6). At 9:00 a.m. the group will reconvene in an open session to review and discuss key points from the Independent Assessment of Health Care Delivery Systems and Management Processes of the Department of Veterans Affairs, which was submitted to Congress and published in the Federal Register in September 2015 and also discuss the Future State of VA Community Care. No time will be allocated for receiving oral presentations from the public. However, members of the public may submit written statements for review by the Committee to Barbara Hyduke, Department of Veterans Affairs, Office of Patient Care Services (10P4), Veterans Health Administration, 810 Vermont Avenue NW., Washington, DC 20420, or by email at Barbara.hyduke@va.gov.

Because the meeting is being held in a VA Medical Center, a photo I.D. may be requested at the entrance as a part of the clearance process. Therefore, you should plan to arrive 15 minutes before the meeting begins to allow time for this. Any member of the public wishing to attend the meeting or seeking additional information should contact Ms. Hyduke at (202) 461-7800 or by email.

Dated: October 29, 2015.
Rebecca Schiller,
Federal Advisory Committee Management Officer.

[FR Doc. 2015-27942 Filed 11-2-15; 8:45 am]

BILLING CODE 8320-01-P